NATIONAL CREDIT UNION ADMINISTRATION

Notice of Meeting

Time and Date: 10 a.m., Thursday, January 22, 2004.

Place: Board Room, 7th Floor, Room 7047, 1775 Duke Street, Alexandria, VA 22314-3428.

Status: Open.

Matters to be Considered:

1. Quarterly Insurance Fund Report.

2. Request from a Federal Credit Union to Convert to a Community Charter.

3. Proposed Rule: Parts 703 and 704 of NCUA's Rules and Regulations, Investment in Exchangeable Collateralized Mortgage Obligations.

FOR FURTHER INFORMATION CONTACT: Becky Baker, Secretary of the Board, Telephone: (703) 518-6304.

Becky Baker,
Secretary of the Board.

[FR Doc. 04-1292 Filed 1-15-04; 4:29 pm]

BILLING CODE 7535-01-M